DEPARTMENT OF ENERGY

Federal Energy Regulatory Commission

[Project No. 637-079]

Public Utility District No. 1 Chelan County; Notice of Application for Amendment of License and Soliciting Comments, Motions To Intervene, and Protests

Take notice that the following hydroelectric application has been filed with the Commission and is available for public inspection:

a. Application Type: Non-Project Use of Project Lands and Waters.

b. Project No.: 637-079.

c. Date Filed: April 15, 2011.

d. Applicant: Public Utility District No. 1 Chelan County.

e. Name of Project: Lake Chelan Hydroelectric Project.

f. Location: The project is located on the Chelan River in Chelan County near the City of Chelan, Washington.

g. Filed Pursuant to: Federal Power Act 16 U.S.C. 791(a)-825(r).

h. Applicant Contact: Michelle Smith, Licensing and Compliance Manager, Public Utility District No. 1 of Chelan County, 327 North Wenatchee Ave., Wenatchee, Washington 98801. Phone: (888) 663-8121, ext 4180. e-mail: michelle@chelanpud.org.

i. FERC Contact: Tara Perry at (202) 502-6546; e-mail: tara.perry@ferc.gov.

j. Deadline for filing comments, motions to intervene, and protests, is May 31, 2011.

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street, NE., Washington, DC 20426. Commenters can submit brief comments up to 6,000 characters, without prior registration, using the eComment system at http://www.ferc.gov/docs-filing/ecomment.asp. You must include your name and contact information at the end of your comments.

Please include the project number (P-637-079) on any comments, motions, or recommendations filed.

k. Description of the Application: Public Utility District No. 1 Chelan County has filed a request for Commission approval to authorize Chelan Ridge Community Association to construct a new 5,350 square foot, 28-slip marina on the south shoreline of Lake Chelan within the project boundary. Construction would include a gangway (5 ft x 65 ft) attached to the existing dock; a marina with a floating walk (6 ft x 428 ft) and 28 finger piers (3 ft x 26 ft) parallel to the shoreline; and installation of 84 whole, mature fruit trees as large woody debris fish habitat mitigation structures.

l. Location of the Application: This filing is available for review at the Commission or may be viewed on the Commission's Web site at http://www.ferc.gov, using the “eLibrary” link. Enter the docket number excluding the last three digits in the docket number field to access the document. You may also register online at http://www.ferc.gov/docs-filing/esubscription.asp to be notified via e-mail of new filings and issuances related to this or other pending projects. For assistance, contact FERC Online Support at FERCOnlineSupport@ferc.gov or toll-free at (866) 208-3676, or for TTY, contact (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: April 28, 2011.
Kimberly D. Bose,
Secretary.

[FR Doc. 2011-10840 Filed 5-3-11; 8:45 am]

BILLING CODE 6717-01-P